NATIONAL SCIENCE FOUNDATION

Proposal Review Panel for Materials Research; Notice of Meeting

In accordance with the Federal Advisory Committee Act (Pub. L. 92-463, as amended), the National Science Foundation (NSF) announces the following meeting:

Name and Committee Code: Proposal Review Panel for Materials Research (DMR) (#1203)—2-Dimensional Crystal Consortium (2DCC), Materials Innovation Platform (MIP), Pennsylvania State University (Site Visit).

Date and Time: July 23, 2018; 8:00 a.m.-8:00 p.m., July 24, 2018; 8:00 a.m.-3:00 p.m.

Place: Pennsylvania State University, University Park, PA 16802.

Type of Meeting: Part open.

Contact Person: Dr. Charles Ying, Program Director, MPS/DMR, National Science Foundation, 2415 Eisenhower Avenue, Room E 9467, Alexandria, VA 22314; Telephone (703) 292-8428.

Purpose of Meeting: Site visit to provide advice and recommendations concerning further support of the MIP at Pennsylvania State University.

Agenda

Monday, July 23, 2018

8:00 a.m.-9:15 a.m., Closed—Executive Session

9:15 a.m.-11:30 a.m., Open—Review of 2DCC MIP

11:30 a.m.-1:00 p.m., Closed—Executive Session

1:00 p.m.-4:00 p.m., Open—Review of 2DCC MIP

4:00 p.m.-8:00 p.m., Closed—Executive Session

Tuesday, July 24, 2018

8:00 a.m.—3:00 p.m., Closed—Executive Session.

Reason for Closing: The work being reviewed during closed portions of the site review includes information of a proprietary or confidential nature including technical information; financial data, such as salaries and personal information concerning individuals associated with 2DCC/MIP program. These matters are exempt under 5 U.S.C. 552b(c), (4) and (6) of the Government in the Sunshine Act.

Dated: June 25, 2018.
Crystal Robinson,
Committee Management Officer.

[FR Doc. 2018-13897 Filed 6-27-18; 8:45 am]

BILLING CODE 7555-01-P